DEPARTMENT OF TRANSPORTATION

Federal Aviation Administration

Aging Transport Systems Rulemaking Advisory Committee; Meeting Cancellations

AGENCY: Federal Aviation Administration (FAA), DOT.

ACTION: Notice of meeting cancellation.

SUMMARY: The FAA is issuing this notice to advise the public that the February 8 and 9, 2001, meeting of the Aging Transport Systems Rulemaking Advisory Committee (66 FR 8842, February 2, 2001) has been cancelled. The meeting will be rescheduled and announced in a later Federal Register notice.

FOR FURTHER INFORMATION CONTACT: Gerri Robinson, Office of Rulemaking, ARM-24, FAA, 800 Independence Avenue, SW., Washington, DC 20591, Telephone (202) 267-9078, FAX (202) 267-5075, or e-mail at gerri.robinson@faa.gov.

Issued in Washington, DC on February 2, 2001.
Anthony F. Fazio,
Director, Office of Rulemaking.

[FR Doc. 01-3308 Filed 2-5-01; 2:35 pm]

BILLING CODE 4910-13-M